DEPARTMENT OF TRANSPORTATION

Federal Aviation Administration

14 CFR Part 39

[Docket No. FAA-2006-25097; Directorate Identifier 2005-SW-19-AD]

RIN 2120-AA64

Airworthiness Directives; Arrow Falcon Exporters, Inc. (Previously Utah State University); Firefly Aviation Helicopter Services (Previously Erickson Air-Crane Co.); California Department of Forestry; Garlick Helicopters, Inc.; Global Helicopter Technology, Inc.; Hagglund Helicopters, LLC (Previously Western International Aviation, Inc.); International Helicopters, Inc.; Precision Helicopters, LLC; Robinson Air Crane, Inc.; San Joaquin Helicopters (Previously Hawkins and Powers Aviation, Inc.); S.M.&T. Aircraft (Previously US Helicopters, Inc., UNC Helicopter, Inc., Southern Aero Corporation, and Wilco Aviation); Smith Helicopters; Southern Helicopter, Inc.; Southwest Florida Aviation International, Inc. (Previously Jamie R. Hill and Southwest Florida Aviation); Tamarack Helicopters, Inc. (Previously Ranger Helicopter Services, Inc.); US Helicopter, Inc. (Previously UNC Helicopter, Inc.); West Coast Fabrication; and Williams Helicopter Corporation (Previously Scott Paper Co.) Model HH-1K, TH-1F, TH-1L, UH-1A, UH-1B, UH-1E, UH-1F, UH-1H, UH-1L, and UH-1P Helicopters; and Southwest Florida Aviation Model SW204, SW204HP, SW205, and SW205A-1 Helicopters

AGENCY: Federal Aviation Administration, DOT.

ACTION: Notice of proposed rulemaking (NPRM).

SUMMARY: This document proposes adopting a new airworthiness directive (AD) for the specified restricted category type-certificated helicopters. The AD would require a review of the helicopter records to determine the Commercial and Government Entity (CAGE) code of the tail rotor (T/R) slider. If the T/R slider is FAA approved or has a certain legible CAGE code, this AD would require no further action. If you cannot determine whether the T/R slider is FAA approved and it has no stamped CAGE code, an illegible stamped CAGE code, or an affected CAGE code, the AD would also require, before further flight and at specified intervals, magnaflux inspecting the T/R slider for a crack. If a crack is found, the AD would require, before further flight, replacing the T/R slider with an airworthy T/R slider. The AD would also require replacing the T/R slider with an airworthy T/R slider on or before accumulating 1,000 hours time-in-service (TIS) or on or before 12 months, whichever occurs first. This proposal is prompted by two accidents attributed to sub-standard T/R sliders that failed during flight. The actions specified by the proposed AD are intended to prevent failure of a T/R slider, loss of T/R control, and subsequent loss of control of the helicopter.

DATES: Comments must be received on or before August 21, 2006.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may examine the comments to this proposed AD in the AD docket on the Internet at http://dms.dot.gov.

FOR FURTHER INFORMATION CONTACT: Kreg Voorhies, Aerospace Engineer, Denver Aircraft Certification Office (ANM-100D), 26805 E. 68th Ave., Room 214, Denver, Colorado 80249, telephone (303) 342-1092, fax (303) 342-1088.

SUPPLEMENTARY INFORMATION:

Comments Invited

We invite you to submit any written data, views, or arguments regarding this proposed AD. Send your comments to the address listed under the caption ADDRESSES. Include the docket number “FAA-2006-25097, Directorate Identifier 2005-SW-19-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

This document proposes adopting a new AD for Model HH-1K, TH-1F, TH-1L, UH-1A, UH-1B, UH-1E, UH-1F, UH-1H, UH-1L, and UH-1P helicopters; and Southwest Florida Aviation Model SW204, SW204HP, SW205, and SW205A-1 helicopters, with a T/R slider, part number (P/N) 204-010-720-3 or P/N 204010720-3, installed. The AD would require a review of the helicopter records to determine the CAGE code of the T/R slider. If the T/R slider is FAA approved or has a certain legible CAGE code, this AD would require no further action. If you cannot determine whether the T/R slider is FAA approved or if it has an illegible CAGE code or CAGE Code 15716 or 26098, the AD would require, before further flight and at specified intervals, magnaflux inspecting the T/R slider for a crack. If a crack is found, the AD would also require, before further flight, replacing the T/R slider with an airworthy T/R slider. The AD would also require replacing the T/R slider that has an illegible CAGE code or Code 15716 or 26098 with an airworthy T/R slider on or before accumulating 1,000 hours TIS or on or before 12 months, whichever occurs first. The T/R sliders manufactured by Forest Scientific, Inc., were produced under a military contract and do not meet the original equipment manufacturers (OEM) specifications. The machining process resulted in excess surface roughness. This proposal is prompted by two accidents attributed to sub-standard T/R sliders that failed during flight. This condition, if not corrected, could result in cracking in the T/R slider, loss of T/R control, and subsequent loss of control of the helicopter.

This unsafe condition is likely to exist or develop on other helicopters of these same type designs. Therefore, the proposed AD would require the following:

• Within 25 hours TIS, unless accomplished previously:

• Review the helicopter records for the CAGE code of the T/R slider. If necessary, remove the installed T/R slider to determine the CAGE code.

○ If the T/R slider is an FAA approved part; for example, an OEM part; or has a legible CAGE code other than Code 15716 or 26098; no further action is required.

○ If you cannot determine whether the T/R slider is FAA approved and it contains no stamped CAGE code, an illegible stamped CAGE code, or a stamped CAGE code 15716 or 26098, before further flight, unless accomplished previously, and thereafter at intervals not to exceed 25 hours TIS, magnaflux inspect the T/R slider for a crack.

○ If a crack is found, before further flight, replace the T/R slider with an airworthy T/R slider.

• On or before accumulating 1000 hours TIS or on or before 12 months, whichever occurs first, replace the T/R slider with an airworthy T/R slider or one that is FAA approved and has a legible CAGE code other than 15716 or 26098. Any T/R slider removed from service based on the requirements of this paragraph is not eligible for installation on any helicopter.

• Replacing the T/R slider with an airworthy FAA approved T/R slider or with a legible CAGE code other than 15716 or 26098, constitutes terminating action for the requirements of this AD.

We estimate that this proposed AD would affect 75 helicopters of U.S. registry and that it would take about:

• 1 work hour to review the helicopter records and 2 work hours to remove and replace the T/R slider for a total of 3 work hours per helicopter to determine the CAGE code for each helicopter in the fleet;

• 3 work hours for each magnaflux inspection with a total of 24 such inspections on each of 10 helicopters based on 600 hours TIS per year; and

• 2 work hours to replace the T/R slider with 10 helicopters needing the T/R slider replaced.

The average labor rate is $65 per work hour. Required parts would cost about $825 for each T/R slider. Based on these figures, the total cost impact of the proposed AD on U.S. operators would be $70,975 ($195 per helicopter to determine the CAGE code and $5,635 per helicopter for repetitively inspecting and ultimately replacing the T/R slider on 10 helicopters).

Regulatory Findings

We have determined that this proposed AD would not have federalism implications under Executive Order 13132. Additionally, this proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Arrow Falcon Exporters, Inc. (previously Utah State University); California Department of Forestry; Firefly Aviation Helicopter Services (previously Erickson Air-Crane Co.); Garlick Helicopters, Inc.; Global Helicopter Technology, Inc.; Hagglund Helicopters, LLC (previously Western International Aviation, Inc.); International Helicopters, Inc.; Precision Helicopters, LLC; Robinson Air Crane, Inc.; San Joaquin Helicopters (previously Hawkins and Powers Aviation, Inc.); S.M.&T. Aircraft (previously US Helicopters, Inc., UNC Helicopter, Inc., Southern Aero Corporation, and Wilco Aviation); Smith Helicopters; Southern Helicopter, Inc.; Southwest Florida Aviation International, Inc. (previously Jamie R. Hill and Southwest Florida Aviation); Tamarack Helicopters, Inc. (previously Ranger Helicopter Services, Inc.); US Helicopters, Inc. (previously UNC Helicopter, Inc.); West Coast Fabrication; and Williams Helicopter Corporation (previously Scott Paper Co.): Docket No. FAA-2006-25097; Directorate Identifier 2005-SW-19-AD.

Applicability

Model HH-1K, TH-1F, TH-1L, UH-1A, UH-1B, UH-1E, UH-1F, UH-1H, UH-1L, and UH-1P helicopters, and Southwest Florida Model SW204, SW204HP, SW205, and SW205A-1 helicopters, with tail rotor (T/R) slider, part number (P/N) 204-010-720-3 or P/N 204010720-3, installed, certificated in any category.

Compliance

Required as indicated.

To prevent failure of the T/R slider, which could result in loss of T/R control and subsequent loss of control of the helicopter, accomplish the following:

(a) Within 25 hours time-in-service (TIS), unless accomplished previously:

(1) Review the helicopter records to determine the Commercial and Government Entity (CAGE) code of the T/R slider. If necessary, remove the installed T/R slider to determine the CAGE code.

(2) If the T/R slider is an FAA approved part; for example, an original equipment manufacturer (OEM) part, and has a legible CAGE code other than Code 15716 or 26098; no further action is required.

(3) If you cannot determine whether the T/R slider is an FAA approved part and it contains no stamped CAGE code, an illegible stamped CAGE code, or is stamped with a CAGE code 15716 or 26098:

(i) Before further flight, unless accomplished previously, and thereafter at intervals not to exceed 25 hours TIS, magnaflux inspect the T/R slider for a crack.

(ii) If a crack is found, before further flight, replace the cracked T/R slider with an airworthy T/R slider.

Note 1: T/R sliders manufactured by Forest Scientific, Inc., were produced under a military contract and do not meet the OEM specifications. The machining process resulted in excess surface roughness. See Figure 1 of this AD.

Note 2: T/R sliders manufactured by Bell Helicopter Textron, Inc. have a vibro-etched P/N on them and do not have a CAGE code marking on the part.

(iii) On or before accumulating 1000 hours TIS or on or before 12 months, whichever occurs first, replace each T/R slider that has an illegible CAGE code or Code 15716 or 26098 with an FAA approved airworthy slider without a CAGE code or with a legible CAGE code other than 15716 or 26098. Any T/R slider removed from service based on the requirements of this paragraph is not eligible for installation on any helicopter.

(iv) Replacing the T/R slider with an FAA approved airworthy T/R slider without a CAGE code or with a legible CAGE code other than 15716 or 26098, constitutes terminating action for the requirements of this AD.

(b) To request a different method of compliance or a different compliance time for this AD, follow the procedures in 14 CFR 39.19. Contact the Manager, Denver Aircraft Certification Office (ANM-100D), ATTN: Kreg Voorhies, Aerospace Engineer, 26805 E. 68th Ave., Room 214, Denver, Colorado 80249, telephone (303) 342-1092, fax (303) 342-1088, for information about previously approved alternative methods of compliance.

Issued in Fort Worth, Texas, on June 15, 2006.
S. Frances Cox,
Acting Manager, Rotorcraft Directorate, Aircraft Certification Service.

[FR Doc. 06-5600 Filed 6-21-06; 8:45 am]

BILLING CODE 4910-13-P